DEPARTMENT OF DEFENSE

Office of the Secretary

Committee Meeting of the Defense Department Advisory Committee on Women in the Services (DACOWITS)

AGENCY: Department of Defense, Advisory Committee on Women in the Services.

ACTION: Notice.

SUMMARY: On April 17, 2003, 68 FR 18972, the Department of Defense published a notice concerning the Committee Meeting of the Defense Department Advisory Committee on Women in the Services (DACOWITS). This notice is published to announce that the session to be held on May 8, 2003, from 1:15 to 2:15, will be closed to the public due to the sensitivity of the briefing content. All other information remains unchanged.

Dated: May 5, 2003.
Patricia L. Toppings,
Alternate OSD Federal Register Liaison Officer, Department of Defense.

[FR Doc. 03-11702 Filed 5-7-03; 12:37 pm]

BILLING CODE 5001-08-M